DEPARTMENT OF HOUSING AND URBAN DEVELOPMENT

[Docket No. FR-5280-N-26]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Energy: Mr. Mark Price, Department of Energy, Office of Engineering & Construction Management, MA-50, 1000 Independence Ave., SW., Washington, DC 20585: (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW., MS2603, Washington, DC 20240; (202) 208-5399; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: July 2, 2009.
Mark R. Johnston
Deputy Assistant Secretary for Special Needs.

TITLE V, FEDERAL SURPLUS PROPERTY PROGRAM

FEDERAL REGISTER REPORT FOR 07/10/2009

Suitable/Available Properties

Building

Iowa

U.S. Army Reserve

620 West 5th St.

Garner IA 50438

Landholding Agency: GSA

Property Number: 54200920017

Status: Excess

GSA Number: 7-D-IA-0510

Comments: 5743 sq. ft., presence of lead paint, most recent use—offices/classrooms/storage, subject to existing easements

Montana

Raymond MT Property

1559 Hwy 16 North

Raymond MT 59256

Landholding Agency: GSA

Property Number: 54200920019

Status: Surplus

GSA Number: 7-X-MT-630

Comments: 650 sq. ft., most recent use—office, off-site use only

Suitable/Available Properties

Land

Idaho

27.5 acres

portion of Tract E

Paul ID 83318

Landholding Agency: Interior

Property Number: 61200920020

Status: Unutilized

Comments: 90% is in agricultural production

8.0 acres

portion of Tract G

Rupert ID 83318

Landholding Agency: Interior

Property Number: 61200920021

Status: Unutilized

Comments: 90% is in agricultural production

Unsuitable Properties

Building

California

4 Bldgs.

Yosemite National Park

Yosemite CA 95389

Landholding Agency: Interior

Property Number: 61200920019

Status: Unutilized

Directions: Foresta Brandt Cabin, Bldgs. 521, 534, 6102

Reasons: Extensive deterioration

Bldg. 14123

Marine Corps Base

Camp Pendleton CA 92055

Landholding Agency: Navy

Property Number: 77200920031

Status: Excess

Reasons: Extensive deterioration, Secured Area

Bldg. 3302

Naval Base

San Diego CA

Landholding Agency: Navy

Property Number: 77200920032

Status: Unutilized

Reasons: Secured Area

Bldg. 1680

Naval Base Coronado

Warner Springs CA

Landholding Agency: Navy

Property Number: 77200920033

Status: Excess

Reasons: Extensive deterioration, Secured Area

Bldg. PH-11 Naval Base

Port Hueneme CA 93043

Landholding Agency: Navy

Property Number: 77200920034

Status: Unutilized

Reasons: Extensive deterioration, Secured Area

Guam

10 Bldgs.

Naval Base

North Tipalao

Santa Rita GU

Landholding Agency: Navy

Property Number: 77200920035

Status: Unutilized

Directions: 802, 803, 804, 811, 812, 813, 814, 821, 822, 823

Reasons: Secured Area

5 Bldgs.

Naval Base

North Tipalao

Santa Rita GU

Landholding Agency: Navy

Property Number: 77200920036

Status: Unutilized

Directions: 809, 810, 819, 820, 824

Reasons: Secured Area

10 Bldgs.

Naval Base

North Tipalao

Santa Rita GU

Landholding Agency: Navy

Property Number: 77200920037

Status: Unutilized

Directions: 972, 974, 975, 982, 971, 973, 970, 976, 978, 980

Reasons: Secured Area

Bldgs. 59, 70, 71

Naval Base

Barrigada GU

Landholding Agency: Navy

Property Number: 77200920038

Status: Unutilized

Reasons: Secured Area, Extensive deterioration

13 Bldgs.

Naval Base, NCTS

Dededo GU

Landholding Agency: Navy

Property Number: 77200920039

Status: Unutilized

Directions: 174, 176, 271, 272, 273, 274, 275, 276, 277, 278, 279, 280, 491

Reasons: Secured Area

Bldg. 367 & Storage Bldg.

Naval Base

Main Base

Dededo GU

Landholding Agency: Navy

Property Number: 77200920040

Status: Unutilized

Reasons: Secured Area

Bldg. 575

Naval Base

Camp Covington

Dededo GU

Landholding Agency: Navy

Property Number: 77200920041

Status: Unutilized

Reasons: Secured Area

6 Bldgs.

Naval Base

Former FAA Compound

Dededo GU

Landholding Agency: Navy

Property Number: 77200920042

Status: Unutilized

Directions: 1880, 1881, 1882, 1883, 1884, 1885

Reasons: Extensive deterioration

Hawaii

Bldg. 29

Naval Station

Pearl Harbor HI 96860

Landholding Agency: Navy

Property Number: 77200920043

Status: Excess

Reasons: Secured Area, Extensive deterioration

Illinois

Bldgs. 310, 330

Argonne National Lab

DuPage IL 60439

Landholding Agency: Energy

Property Number: 41200920007

Status: Excess

Reasons: Contamination, Secured Area

Iowa

U.S. Army Reserve Center

904 W. Washington St.

Mount Pleasant IA 52641

Landholding Agency: GSA

Property Number: 54200920018

Status: Excess

GSA Number: 7-D-IA-0509

Reasons: Within airport runway clear zone

Louisiana

6 Bldgs.

Naval Air Station

Joint Reserve Base

New Orleans LA 70143

Landholding Agency: Navy

Property Number: 77200920044

Status: Excess

Directions: 37, 89, 122, 159, 418, 902

Reasons: Secured Area, Within 2000 ft. of flammable or explosive material

New Mexico

2 Bldgs.

Los Alamos National Lab

18-0257, 18-0258

Los Alamos NM 87545

Landholding Agency: Energy

Property Number: 41200920008

Status: Excess

Reasons: Secured Area, Extensive deterioration

9 Bldgs.

Los Alamos National Lab

Los Alamos NM 87545

Landholding Agency: Energy

Property Number: 41200920009

Status: Excess

Directions: 53-0401, 53-0403, 53-0409, 53-0456, 53-0514, 53-0525, 53-0535, 53-0544, 53-0675

Reasons: Extensive deterioration, Secured Area

6 Bldgs.

Los Alamos National Lab

Los Alamos NM 87545

Landholding Agency: Energy

Property Number: 41200920010

Status: Excess

Directions: 54-0117, 54-0185, 54-210, 54-211, 54-221, 60-0282

Reasons: Secured Area, Extensive deterioration

6 Bldgs.

Los Alamos National Lab

Los Alamos NM 87545

Landholding Agency: Energy

Property Number: 41200920011

Status: Excess

Directions: 21-0155, 21-0209, 21-0213, 21-0227, 21-0229, 21-0257

Reasons: Extensive deterioration, Secured Area

8 Bldgs.

Los Alamos National Lab

Los Alamos NM 87545

Landholding Agency: Energy

Property Number: 41200920012

Status: Excess

Directions: 54-0226, 63-0001, 63-0002, 63-0003, 63-0004, 63-0077, 63-0078, 63-0093

Reasons: Secured Area, Extensive deterioration

Virginia

4 Bldgs./Land

Naval Station

Norfolk VA 23511

Landholding Agency: Navy

Property Number: 77200920045

Status: Underutilized

Directions: SDA-204, SDA-205, SDA-210, SDA-311 & 36.6 acres

Reasons: Secured Area

Washington

Bldgs. 2660, 2661, 2662

Naval Air Station

Whidbey Island WA 98278

Landholding Agency: Navy

Property Number: 77200920047

Status: Unutilized

Reasons: Extensive deterioration

Land

Florida

Encroachment #34

Gulf Intracoastal Waterway

Perdido Key FL

Landholding Agency: GSA

Property Number: 54200920016

Status: Excess

GSA Number: 4-D-FL-1223-AC

Reasons: Not accessible by road, Floodway

[FR Doc. E9-16202 Filed 7-9-09; 8:45 am]

BILLING CODE 4210-67-P